DEPARTMENT OF TRANSPORTATION

Surface Transportation Board

[STB Ex Parte No. 558 (Sub-No. 5)]

Railroad Cost of Capital—2001

AGENCY: Surface Transportation Board.

ACTION: Notice of decision instituting a proceeding to determine the railroads' 2001 cost of capital.

SUMMARY: The Board is instituting a proceeding to determine the railroad industry's cost of capital for 2001. The decision solicits comments on: (1) The railroads' 2001 cost of debt capital; (2) the railroads' 2001 current cost of preferred stock equity capital; (3) the railroads' 2001 cost of common stock equity capital; and (4) the 2001 capital structure mix of the railroad industry on a market value basis.

DATES: Notices of intent to participate are due no later than January 14, 2002. Statements of the railroads are due by March 29, 2002. Statements of other interested persons are due by April 22, 2002. Rebuttal statements by the railroads are due by May 13, 2002.

ADDRESSES: Send an original and 10 copies of statements and a copy of the statement on a 3.5 inch disk in WordPerfect 9.0, and an original and 1 copy of the notice of intent to participate to: Surface Transportation Board, Office of the Secretary, Case Control Branch, 1925 K Street, NW, Washington, DC 20423.

FOR FURTHER INFORMATION CONTACT: Leonard J. Blistein, (202) 565-1529. [TDD for the hearing impaired: (202) 565-1695.]

SUPPLEMENTARY INFORMATION: Additional information is contained in the Board's decision. To obtain a copy of the full decision, write to, call, or pick up in person from the Board's contractor, Dā- To Dā Legal, Suite 405, 1925 K Street, NW, Washington, DC 20006, phone (202) 293-7776. [Assistance for the hearing impaired is available through TDD services 1 (800) 877-8339.] A copy of the decision can also be obtained from the Board's Internet site (www.stb.dot.gov).

We preliminarily conclude that the proposed action will not significantly affect either the quality of the human environment or the conservation of energy resources.

Authority: 49 U.S.C. 10704(a).

Decided: December 13, 2001.
By the Board, Chairman Morgan, Vice Chairman Clyburn, and Commissioner Burkes.
Vernon A. Williams,
Secretary.

[FR Doc. 01-31368 Filed 12-20-01; 8:45 am]

BILLING CODE 4915-00-P